FEDERAL COMMUNICATIONS COMMISSION

47 CFR Part 73

[DA 01-2447; MM Docket No. 01-107; RM-10057]

Radio Broadcasting Services; Mount Pleasant and Hemlock, MI

AGENCY: Federal Communications Commission.

ACTION: Final rule.

SUMMARY: This document reallots Channel 233C1 from Mount Pleasant, Michigan to Hemlock, Michigan, and modifies the license for Station WCEN-FM to specify operation on Channel 233C1 at Hemlock, Michigan, in response to a petition filed by Wilks Broadcasting LLC. See 66 FR 27058, May 16, 2001. The coordinates for Channel 233C1 at Hemlock are 43-43-36 and 84-36-16.

DATES: Effective December 3, 2001.

FOR FURTHER INFORMATION CONTACT: Kathleen Scheuerle, Mass Media Bureau, (202) 418-2180.

SUPPLEMENTARY INFORMATION: This is a summary of the Commission's Report and Order, MM Docket No. 01-107 adopted October 10, 2001, and released October 19, 2001. The full text of this Commission decision is available for inspection and copying during regular business hours in the FCC Reference Information Center, Portals II, 445 12th Street, SW, Room CY-A257, Washington, DC 20554. This document may also be purchased from the Commission's duplicating contractor, Qualex International, Portals II, 445 12 Street, SW, Room CY-B402, Washington, DC, 20554, (202) 863-2893, facsimile (202) 863-2898, or via e-mail qualexint@aol.com.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Michigan, is amended by removing Channel 233C1 at Mount Pleasant and adding Hemlock, Channel 233C1.

Federal Communications Commission.
John A. Karousos,
Chief, Allocations Branch, Policy and Rules Division, Mass Media Bureau.

[FR Doc. 01-27611 Filed 11-1-01; 8:45 am]

BILLING CODE 6712-01-P